DEPARTMENT OF ENERGY

Federal Energy Regulatory Commission

Combined Notice of Filings #1

Take notice that the Commission received the following electric rate filings:

Docket Numbers: ER15-2239-007.

Applicants: NextEra Energy Transmission West, LLC.

Description: Compliance filing: NextEra Energy Transmission West, LLC Compliance Filing Regarding EL16-97-000 to be effective 8/11/2016.

Filed Date: 2/3/17.

Accession Number: 20170203-5229.

Comments Due: 5 p.m. ET 2/24/17.

Docket Numbers: ER15-2418-003.

Applicants: Pacific Gas and Electric Company.

Description: Compliance filing: Cancel of Tariff Records pursuant to BART v PG&E Settlement EL15-30, ER15-2418 to be effective 3/12/2016.

Filed Date: 2/3/17.

Accession Number: 20170203-5228.

Comments Due: 5 p.m. ET 2/24/17.

Docket Numbers: ER17-935-000.

Applicants: ITC Midwest LLC.

Description: § 205(d) Rate Filing: Filing of De-Energization Agreement to be effective 4/3/2017.

Filed Date: 1/31/17.

Accession Number: 20170131-5483.

Comments Due: 5 p.m. ET 2/21/17.

Docket Numbers: ER17-936-000.

Applicants: New York State Electric & Gas Corporation.

Description: Tariff Cancellation: Notice of Cancellation of E&P Agreement with Black Oak Wind Farm, LLC to be effective 4/5/2017.

Filed Date: 2/3/17.

Accession Number: 20170203-5225.

Comments Due: 5 p.m. ET 2/24/17.

Docket Numbers: ER17-937-000.

Applicants: Central Maine Power Company.

Description: § 205(d) Rate Filing: Executed Small Generator Interconnection Agreement (SGIA) with Stony Brook Hydro to be effective 2/1/2017.

Filed Date: 2/3/17.

Accession Number: 20170203-5226.

Comments Due: 5 p.m. ET 2/24/17.

Docket Numbers: ER17-938-000.

Applicants: Central Maine Power Company.

Description: § 205(d) Rate Filing: Executed Small Generator Interconnection Agreement (SGIA) with Wight Brook Hydro to be effective 2/1/2017.

Filed Date: 2/3/17.

Accession Number: 20170203-5227.

Comments Due: 5 p.m. ET 2/24/17.

Docket Numbers: ER17-939-000.

Applicants: Southern California Edison Company.

Description: § 205(d) Rate Filing: Filing of Second Revised Rate Schedule FERC No. 402 to be effective 2/6/2017.

Filed Date: 2/3/17.

Accession Number: 20170203-5231.

Comments Due: 5 p.m. ET 2/24/17.

Docket Numbers: ER17-940-000.

Applicants: Wisconsin Electric Power Company.

Description: Initial rate filing: Wisconsin Electric FERC Electric Rate Schedule No. 137 to be effective 4/5/2017.

Filed Date: 2/3/17.

Accession Number: 20170203-5232.

Comments Due: 5 p.m. ET 2/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2017.
Nathaniel J. Davis, Sr.,
Deputy Secretary.

[FR Doc. 2017-02775 Filed 2-9-17; 8:45 am]

BILLING CODE 6717-01-P